DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 9, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Assessing Equity in Work Requirements and SNAP Employment and Training.

OMB Control Number: 0584-NEW.

Summary of Collection: Section 17 [7 U.S.C. 2026] (a)(1) of the Food and Nutrition Act of 2008, as amended, provides general legislative authority for the planned data collection. It authorizes the Secretary of Agriculture to enter into contracts with private institutions to undertake research that will help improve the administration and effectiveness of SNAP. FNS is conducting this study to identify data available from SNAP State agencies, their E&T provider partners, and other sources that can be used to develop measures to assess equity in the administration of SNAP work requirements and E&T services. The developed measures can be used to determine how and whether States are providing equitable access to SNAP through the administration of work requirements, achieving equitable participation in education and training opportunities through the SNAP E&T program, and adopting program option and discretionary policies and procedures that influence disparities.

Need and Use of the Information: FNS has identified four objectives for this study:

1. Identify areas in the administration of work requirements in SNAP and in SNAP E&T program administration and access where equity issues could occur.

2. Identify and describe the data that could be used to assess access and outcomes in the areas identified in Objective 1.

3. Describe how State agencies address equity in administering work requirements in their SNAP and SNAP E&T programs.

4. Develop recommendations on how FNS should assess and measure equity in the administration of work requirements in SNAP and in SNAP E&T program administration and access.

Description of Respondents: State, Local and Tribal Governments, Businesses, Individuals.

Number of Respondents: 296.

Frequency of Responses: Reporting: Once.

Total Burden Hours: 366.32.

Rachelle Ragland-Greene,
Departmental Information Collection Clearance Officer.

[FR Doc. 2024-17584 Filed 8-7-24; 8:45 am]

BILLING CODE 3410-30-P